DEPARTMENT OF ENERGY

Meetings; National Coal Council

AGENCY: Department of Energy.

ACTION: Notice of open meetings.

SUMMARY: This notice announces a meeting of the National Coal Council (NCC). The Federal Advisory Committee Act requires that public notice of these meetings be announced in the Federal Register.

DATES: Wednesday, September 27, 2017, 8:30 a.m.-12:15 p.m.

ADDRESSES: Renaissance Ross Bridge Resort, 4000 Grand Avenue, Birmingham, AL 35226.

FOR FURTHER INFORMATION CONTACT: Daniel Matuszak, U.S. Department of Energy, 4G-036/Forrestal Building, 1000 Independence Avenue SW., Washington, DC 20585-0001; Telephone: 202-287-6915.

SUPPLEMENTARY INFORMATION:

Purpose of the Council: The National Coal Council provides advice and recommendations to the Secretary of Energy, on general policy matters relating to coal and the coal industry.

Purpose of Meeting: The 2017 Fall Meeting of the National Coal Council.

Agenda

1. Call to order and opening remarks by Greg Workman, Chair, National Coal Council

2. Keynote Remarks by Dr. Grace Bochenek, Director, National Energy Technology Laboratory, U.S. Department of Energy

3. Industry Keynote Presentation—Dan Byers, Senior Director Policy, U.S. Chamber Global Energy Institute

4. Presentation by Andy Roberts, Research Director—Global Thermal Coal Markets, Wood Mackenzie on What's Needed to Incentivize Deployment of Advance Coal Plants in the U.S.

5. Presentation by Hans Daniels, CEO, Doyle Trading Consultants on Opportunities for U.S. Coal Exports

6. Presentation by Roy W. Hill, Chairman of the Board Clean Energy Technology Association Inc. on CETA Energy's Lignite Coal Distillation Initiative

7. Council Business:

a. NCC Chair's Report by NCC Chair Greg Workman

b. Finance Report by Finance Committee Chair Dan Roling

c. Coal Policy Committee Report by Coal Policy Committee Chair Deck Slone

d. Communications Committee Report by Communications Committee Chair Lisa Bradley

e. NCC Business Report by NCC CEO Janet Gellici

8. Other Business

9. Adjourn

Attendees are requested to register in advance for the meeting at: http://www.nationalcoalcouncil.org/page-NCC-Events.html.

Public Participation: The meeting is open to the public. If you would like to file a written statement with the Council, you may do so either before or after the meeting. If you would like to make oral statements regarding any item on the agenda, you should contact Daniel Matuszak, 202-287-6915 or daniel.matuszak@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC, on September 6, 2017.
LaTanya R. Butler,
Deputy Committee Management Officer.

[FR Doc. 2017-19176 Filed 9-8-17; 8:45 am]

BILLING CODE 6450-01-P